DEPARTMENT OF COMMERCE

International Trade Administration

[A-570-172]

Vanillin From the People's Republic of China: Postponement of Preliminary Determination in the Less-Than-Fair-Value Investigation

AGENCY: Enforcement and Compliance, International Trade Administration, Department of Commerce.

DATES: Applicable October 22, 2024.

FOR FURTHER INFORMATION CONTACT: Yang Jin Chun, AD/CVD Operations, Office I, Enforcement and Compliance, International Trade Administration, U.S. Department of Commerce, 1401 Constitution Avenue NW, Washington, DC 20230; telephone: (202) 482-5760.

SUPPLEMENTARY INFORMATION:

Background

On June 25, 2024, the U.S. Department of Commerce (Commerce) initiated the less-than-fair-value investigation (LTFV) on imports of vanillin from the People's Republic of China.¹ On July 22, 2024, Commerce tolled certain deadlines in this administrative proceeding by seven days.² The preliminary determination is currently due no later than November 19, 2024.

¹ See Vanillin from the People's Republic of China: Initiation of Less-Than-Fair-Value Investigation, 89 FR 54424 (July 1, 2024).

² See Memorandum, “Tolling of Deadlines for Antidumping and Countervailing Duty Proceedings,” dated July 22, 2024.

Postponement of Preliminary Determination

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On October 8, 2024, the petitioner submitted a timely request that Commerce postpone the preliminary determination in this LTFV investigation.³ The petitioner stated that it requests postponement because additional time will allow Commerce to issue supplemental questionnaires to address deficiencies and omissions in the mandatory respondents' responses and to ensure an accurate calculation of preliminary dumping margins.⁴

³ See Petitioner`s Letter, “Request for Postponement of the Preliminary Determination,” dated October 8, 2024. The petitioner is Solvay USA LLC.

⁴ Id.

For the reasons stated above and because there are no compelling reasons to deny the request, Commerce is postponing the deadline for the preliminary determination by 50 days, i.e., 190 days after the date on which this investigation was initiated, in accordance with section 733(c)(1)(A) of the Act. As a result, Commerce will issue its preliminary determination no later than January 8, 2025. In accordance with section 735(a)(1) of the Act and 19 CFR 351.210(b)(1), the deadline for the final determination of this investigation will continue to be 75 days after the date of the preliminary determination, unless postponed at a later date.

Notification to Interested Parties

This notice is issued and published pursuant to section 733(c)(2) of the Act and 19 CFR 351.205(f)(1).

Dated: October 16, 2024.
Ryan Majerus,
Deputy Assistant Secretary for Policy and Negotiations, performing the non-exclusive functions and duties of the Assistant Secretary for Enforcement and Compliance.

[FR Doc. 2024-24390 Filed 10-21-24; 8:45 am]

BILLING CODE 3510-DS-P